DEPARTMENT OF TRANSPORTATION

Federal Aviation Administration

14 CFR Part 39

[Docket No. 99-NM-228-AD; Amendment 39-11756; AD 2000-11-08]

RIN 2120-AA64

Airworthiness Directives; Boeing Model 747 and 767 Series Airplanes Powered by General Electric Model CF6-80C2 Series Engines

AGENCY: Federal Aviation Administration, DOT.

ACTION: Final rule.

SUMMARY: This amendment supersedes an existing airworthiness directive (AD), applicable to certain Boeing Model 747 and 767 series airplanes, that currently requires revising the FAA-approved Airplane Flight Manual (AFM) to prohibit the use of certain fuels; and either replacing an existing placard with a new placard, or replacing all dribble flow fuel nozzles (DFFN) with standard fuel nozzles, which terminates the requirements for the new placard and AFM revision. This amendment continues these requirements and adds identical requirements applicable to airplanes on which standard fuel nozzles are not installed. This amendment is prompted by a report of an engine flameout due to use of JP-4 or Jet B fuel during certification testing on an engine with DFFN's installed.

The actions specified by this AD are intended to prevent such engine flameouts and consequent engine shutdown.

DATES: Effective July 6, 2000.

The incorporation by reference of certain publications listed in the regulations is approved by the Director of the Federal Register as of July 6, 2000.

The incorporation by reference of certain other publications, as listed in the regulations, was approved previously by the Director of the Federal Register as of May 1, 1998 (63 FR 18817, April 16, 1998).

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dionne M. Krebs, Aerospace Engineer, Propulsion Branch, ANM-140S, FAA, Transport Airplane Directorate, Seattle Aircraft Certification Office, 1601 Lind Avenue, SW., Renton, Washington 98055-4056; telephone (425) 227-2250; fax (425) 227-1181.

SUPPLEMENTARY INFORMATION: A proposal to amend part 39 of the Federal Aviation Regulations (14 CFR part 39) by superseding AD 98-08-23, amendment 39-10472 (63 FR 18817, April 16, 1998), which is applicable to certain Boeing Model 747 and 767 series airplanes, was published in the Federal Register on December 15, 1999 (64 FR 69964). The action proposed to continue the requirements of AD 98-08-23 and add identical requirements applicable to airplanes on which standard fuel nozzles are not installed.

Comments

Interested persons have been afforded an opportunity to participate in the making of this amendment. Due consideration has been given to the comments received.

Request To Add New Part Number to Table 1

Two commenters request that Table 1 of the proposed rule be revised to include a certain General Electric (GE) fuel flow nozzle. Table 1 of the proposed rule lists GE fuel nozzles that are acceptable for installation. The commenters state that the GE fuel flow nozzle having part number 9331M72P22 is a previously certified standard (i.e., non-dribble) fuel nozzle configuration that should be included on this list. The FAA concurs with the commenters' request and has revised Table 1 of this final rule accordingly.

Request To List Dribble Flow Fuel Nozzle Part Numbers

One commenter requests that, in order to preclude the need for future rulemaking, the FAA revise the proposed rule to list the part numbers for the dribble flow fuel nozzles (DFFN), rather than the acceptable part numbers, in Table 1 of this AD or to reference the GE service bulletin. The commenter notes that the proposed rule references acceptable GE fuel nozzle part numbers instead of DFFN part numbers to avoid the need for future AD revisions as new DFFN part numbers are approved. However, the commenter points out that, as GE improves its products, the list of acceptable part numbers may expand beyond those listed in Table 1 of the proposed rule. The commenter also indicates that the wording of the proposed rule is confusing because the existing AD referenced DFFN part numbers directly.

The FAA does not concur with the commenter's request. The FAA concurs with the commenter's statement that listing standard fuel nozzle part numbers in Table 1 of the proposed rule is intended to avoid future AD revisions as new DFFN part numbers are approved. However, if the FAA was to continue to list DFFN part numbers in the proposed AD, the only way to require a restriction on wide cut fuels for Model 747 and 767 series airplanes equipped with DFFN's certified in the future would be to supersede this AD. The FAA finds it inappropriate to impose the additional administrative burden of a supersedure of this AD on operators (as well as on the FAA itself). Also, the FAA notes that standard fuel nozzle part numbers certified in the future (and, therefore, not listed in Table 1 of the proposed rule) can be approved as an alternative method of compliance to this AD, in accordance with paragraph (g)(1) of this AD. No change to the final rule is necessary in this regard.

Request To Revise Applicable Service Bulletins

One commenter requests that the applicable service bulletins be revised to include in the effectivity listing only airplanes that are currently operating with DFFN's. The commenter notes that Boeing Alert Service Bulletin 747-11A2052, Revision 1, dated August 5, 1999, includes additional airplanes in the effectivity listing. The commenter states that these airplanes were added to the effectivity listing to ensure that all affected airplanes are modified in accordance with the alert service bulletin. The commenter also states that the proposed rule does not consider airplanes having documentation that specifies compliant delivery configurations. The commenter notes that some operators that have airplanes already in full compliance with this AD will have to apply to the FAA for relief, which will cost additional time and effort for both the FAA and affected operators. The commenter states that its airplanes are not subject to the requirements of the existing AD, but under the proposed rule, it will have to show compliance for airplanes that are not affected.

The FAA acknowledges that Boeing Alert Service Bulletin 747-11A2052, Revision 1, adds airplanes to the effectivity listing of that service bulletin. However, the FAA does not concur with the commenter that airplanes added to the effectivity listing of Revision 1 of the alert service bulletin are not subject to the existing AD. AD 98-08-23 is applicable to all Boeing Model 747 and 767 series airplanes powered by GE Model CF6-80C2 series engines. The airplanes added to the effectivity listing of Revision 1 of the service bulletin were added to make the service bulletin consistent with the applicability of AD 98-08-23. The applicability of the proposed rule is the same as that of the existing AD. The FAA finds that no change to the service bulletin is necessary.

The FAA also does not concur with the commenter that the proposed rule does not provide for airplanes with documentation that specifies compliant delivery configurations. If an operator has documentation provided by the manufacturer upon delivery of a new airplane that positively shows that the airplane is equipped with fuel nozzles having part numbers listed in Table 1 of this AD, no further action is necessary, provided that all of the other airplanes in the operator's fleet are equipped with standard (non-DFFN) nozzles.

The FAA also does not concur with the commenter that its airplanes are not subject to the existing AD because the operator's fleet includes only airplanes equipped with standard fuel flow nozzles. As explained previously, AD 98-08-23 applies to all Boeing Model 747 and 767 series airplanes powered by GE CF6-80C2 series engines. Therefore, the Model 747 and 767 series airplanes powered by General Electric CF6-80C2 series engines in the commenter's fleet are subject to the requirements of AD 98-08-23. The fact that the operator has no airplane equipped with DFFN's having the affected part numbers means that the operator is not required to restrict the use of wide cut fuels. However, if the operator introduces an airplane with DFFN's into its fleet, it would be required to comply with the Airplane Flight Manual (AFM) revision and placarding requirements described in AD 98-08-23 and retained in this AD. No change to the final rule is necessary in this regard.

Request To Make Paragraph (c)(1) Consistent With AFM

One commenter requests that the FAA revise paragraph (c)(1) of the proposed rule to be consistent with the wording used in the applicable Boeing AFM. The commenter states that the Boeing AFM's do not add the sentence identified in paragraphs (a)(1)(ii) and (c)(2) of the proposed rule to paragraph 2 of the Engine Fuel System section of the AFM. Instead, the sentence is included in paragraph 1 of the Engine Fuel System section of the AFM. Therefore, the commenter proposes moving the sentence in paragraphs (a)(1)(ii) and (c)(2) to the end of the paragraphs provided in paragraphs (a)(1)(i) and (c)(1) of the proposed rule.

The FAA does not concur with the commenter's request. The proposed rule carries over the requirements of AD 98-08-23, including the changes to the text of the AFM. Because the commenter's proposal does not substantively change the intent of the proposed AFM revision, the FAA considers such a change to the proposed rule to be unnecessary and potentially confusing. The operator may choose to obtain approval for its proposed wording by requesting an alternative method of compliance in accordance with paragraph (g)(1) of this AD. No change to the final rule is necessary in this regard.

Conclusion

After careful review of the available data, including the comments noted above, the FAA has determined that air safety and the public interest require the adoption of the rule with the change previously described. The FAA has determined that this change will neither increase the economic burden on any operator nor increase the scope of the AD.

Cost Impact

There are approximately 430 Model 747 and 767 series airplanes of the affected design in the worldwide fleet. The FAA estimates that 115 airplanes of U.S. registry will be affected by this AD.

The AFM revision that is currently required by AD 98-08-23, and retained in this AD, takes approximately 1 work hour per airplane to accomplish, at an average labor rate of $60 per work hour. Based on these figures, the cost impact of this current requirement on U.S. operators is estimated to be $6,900, or $60 per airplane.

The placard replacement that is currently required by AD 98-08-23, and retained in this AD, takes approximately 1 work hour per airplane to accomplish, at an average labor rate of $60 per work hour. Required parts cost approximately $12 per airplane. Based on these figures, the cost impact of this current requirement on U.S. operators is estimated to be $8,280, or $72 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10472 (63 FR 18817, April 16, 1998), and by adding a new airworthiness directive (AD), amendment 39-11756, to read as follows:

2000-11-08 Boeing: Amendment 39-11756. Docket 99-NM-228-AD. Supersedes AD 98-08-23, amendment 39-10472.

Applicability: Model 747 and 767 series airplanes, powered by General Electric Model CF6-80C2 series engines, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g)(1) of this AD. The request should include an assessment of the effect of the modification, alteration, or repair on the unsafe condition addressed by this AD; and, if the unsafe condition has not been eliminated, the request should include specific proposed actions to address it.

Compliance: Required as indicated, unless accomplished previously.

To prevent engine flameouts due to the use of JP-4 or Jet B fuel on certain engines with dribble flow fuel nozzles (DFFN) installed, and consequent engine shutdown, accomplish the following:

Restatement of Requirements of AD 98-08-23

Airplane Flight Manual Revision

(a) If a DFFN having General Electric part number 9331M72P33, 9331M72P34, or 9331M72P41 is installed on any airplane in a specific operator's fleet, accomplish the requirements of paragraphs (a)(1) and (a)(2) of this AD; in accordance with either Boeing Alert Service Bulletin 747-11A2052, dated September 11, 1997, or Revision 1, dated August 5, 1999 (for Model 747 series airplanes); or Boeing Alert Service Bulletin 767-11A0031, dated September 11, 1997, or Revision 1, dated August 12, 1999 (for Model 767 series airplanes); as applicable.

(1) Within 14 days after May 1, 1998 (the effective date of AD 98-08-23), all airplanes in a specific operator's fleet must revise Section 1 of the Limitations Section of the FAA-approved AFM to include the following procedures. This may be accomplished by inserting a copy of this AD into the AFM.

(i) Revise paragraph 1 of the Engine Fuel System section to read as follows: “The fuel designation is General Electric (GE) Specification D50TF2, as revised. Fuel conforming to commercial jet fuel specification ASTM-D-1655, Jet A, and Jet A-1 are authorized for unlimited use in this engine. Fuels conforming to MIL-T-5624 grade JP-5 and MIL-T-83113 grade JP-8 are acceptable alternatives. The engine will operate satisfactorily with any of the foregoing fuels or any mixture thereof.” And,

(ii) Add the following sentence to paragraph 2 of the Engine Fuel System section: “The use of Jet B and JP-4 fuel is prohibited.”

Modification

(2) Within 30 days after May 1, 1998, all airplanes in a specific operator's fleet must accomplish the requirements of paragraph (a)(2)(i) or (a)(2)(ii) of this AD, as applicable.

(i) Remove the existing placard on the door of the fueling control panel and replace it with a new placard that restricts the use of JP-4 and Jet B fuels (wide cut fuels), in accordance with the applicable alert service bulletin. Or

(ii) Remove the DFFN's, and replace them with standard fuel nozzles, in accordance with the applicable alert service bulletin. When an operator's entire fleet has had all DFFN's replaced with standard fuel nozzles, the AFM revision required by paragraphs (a)(1)(i) and (a)(1)(ii) of this AD may be removed from the AFM, and the placard required by paragraph (a)(2)(i) of this AD may be removed from each airplane.

Spares

(b) As of May 1, 1998, no person shall install any DFFN having General Electric part number 9331M72P33, 9331M72P34, or 9331M72P41 on any airplane unless the requirements specified by paragraphs (a)(1)(i), (a)(1)(ii), and (a)(2)(i) of this AD have been accomplished for the operator's entire fleet.

New Requirements of This AD

Airplane Flight Manual Revision

(c) If a fuel nozzle NOT having one of the General Electric part numbers listed in Table 1 of this AD is installed on any airplane in a specific operator's fleet: Within 14 days after the effective date of this AD, revise Section 1 of the Limitations Section of the FAA-approved AFM for each airplane in the operator's fleet to include the following procedures. This may be accomplished by inserting a copy of this AD into the AFM.

Table 1.—General Electric Fuel Nozzles Acceptable for Installation
Part Number
9331M72P14
9331M72P20
9331M72P21
9331M72P22
9331M72P23
9331M72P24
9331M72P27
9331M72P28
9331M72P39
9331M72P40
1968M49P03
1968M49P04
1968M49P05
1968M49P06

(1) Revise paragraph 1 of the Engine Fuel System section to read as follows: “The fuel designation is General Electric (GE) Specification D50TF2, as revised. Fuel conforming to commercial jet fuel specification ASTM-D-1655, Jet A, and Jet A-1 are authorized for unlimited use in this engine. Fuels conforming to MIL-T-5624 grade JP-5 and MIL-T-83113 grade JP-8 are acceptable alternatives. The engine will operate satisfactorily with any of the foregoing fuels or any mixture thereof.” And,

(2) Add the following sentence to paragraph 2 of the Engine Fuel System section: “The use of Jet B and JP-4 fuel is prohibited.”

Modification

(d) If a fuel nozzle NOT having one of the General Electric part numbers listed in Table 1 of this AD is installed on any airplane in a specific operator's fleet: Within 30 days after the effective date of this AD, accomplish the requirements of paragraph (d)(1) or (d)(2) of this AD on each airplane in the operator's fleet, in accordance with either Boeing Alert Service Bulletin 747-11A2052, Revision 1, dated August 5, 1999 (for Model 747 series airplanes); or Boeing Alert Service Bulletin 767-11A0031, Revision 1, dated August 12, 1999 (for Model 767 series airplanes); as applicable.

(1) Remove the existing placard on the door of the fueling control panel and replace it with a new placard that restricts the use of JP-4 and Jet B fuels (wide cut fuels), in accordance with the applicable alert service bulletin. Or

(2) Remove any fuel nozzle having a part number NOT listed in Table 1 of this AD, and replace it with a fuel nozzle having a part number listed in Table 1 of this AD, in accordance with the applicable alert service bulletin. When an operator's entire fleet has only fuel nozzles having a part number listed in Table 1 of this AD installed, the AFM revision required by paragraph (c) of this AD may be removed from the AFM, and the placard required by paragraph (d)(1) of this AD may be removed from each airplane.

(e) Except as provided by paragraphs (b) and (f) of this AD, if all fuel nozzles installed on any airplane in a specific operator's fleet have one of the General Electric part numbers listed in Table 1 of this AD, no further action is required by this AD.

Spares

(f) As of the effective date of this AD, no person shall install any fuel nozzle NOT having one of the General Electric part numbers listed in Table 1 of this AD on any airplane unless the requirements specified by paragraphs (c)(1), (c)(2), and (d)(1) of this AD have been accomplished for the operator's entire fleet.

Alternative Methods of Compliance

(g)(1) An alternative method of compliance or adjustment of the compliance time that provides an acceptable level of safety may be used if approved by the Manager, Seattle Aircraft Certification Office (ACO), FAA, Transport Airplane Directorate. Operators shall submit their requests through an appropriate FAA Principal Maintenance Inspector, who may add comments and then send it to the Manager, Seattle ACO.

(2) Alternative methods of compliance, approved previously in accordance with AD 98-08-23, amendment 39-10472, are approved as alternative methods of compliance with this AD.

Note 2: Information concerning the existence of approved alternative methods of compliance with this AD, if any, may be obtained from the Seattle ACO.

Special Flight Permits

(h) Special flight permits may be issued in accordance with sections 21.197 and 21.199 of the Federal Aviation Regulations (14 CFR 21.197 and 21.199) to operate the airplane to a location where the requirements of this AD can be accomplished.

Incorporation by Reference

(i) Except as provided by paragraph (c) of this AD, the actions shall be done in accordance with Boeing Alert Service Bulletin 747-11A2052, dated September 11, 1997, or Boeing Alert Service Bulletin 747-11A2052, Revision 1, dated August 5, 1999 (for Model 747 series airplanes); or Boeing Alert Service Bulletin 767-11A0031, dated September 11, 1997, or Boeing Alert Service Bulletin 767-11A0031, Revision 1, dated August 12, 1999 (for Model 767 series airplanes); as applicable.

(1) The incorporation by reference of Boeing Alert Service Bulletin 747-11A2052, Revision 1, dated August 5, 1999; and Boeing Alert Service Bulletin 767-11A0031, Revision 1, dated August 12, 1999; is approved by the Director of the Federal Register in accordance with 5 U.S.C. 552(a) and 1 CFR part 51.

(2) The incorporation by reference of Boeing Alert Service Bulletin 747-11A2052, dated September 11, 1997; and Boeing Alert Service Bulletin 767-11A0031, dated September 11, 1997; was approved previously by the Director of the Federal Register as of May 1, 1998 (63 FR 18817, April 16, 1998).

(3) Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(j) This amendment becomes effective on July 6, 2000.

Issued in Renton, Washington, on May 23, 2000.
Donald L. Riggin,
Acting Manager, Transport Airplane Directorate, Aircraft Certification Service.

[FR Doc. 00-13447 Filed 5-31-00; 8:45 am]

BILLING CODE 4910-13-U